DEPARTMENT OF TRANSPORTATION

Office of the Secretary

Notice of Applications for Certificates of Public Convenience and Necessity and Foreign Air Carrier Permits Filed Under Subpart B (Formerly Subpart Q) During the Week Ending March 14, 2009.

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0063.

Date Filed: March 10, 2009.

Due Date for Answers, Conforming Applications, or Motion to Modify Scope: March 31, 2009.

Description: Application of A-Jet Aviation & Aircraft Management GmbH (“A-Jet”) requesting an exemption and a foreign air carrier permit authorizing A-Jet to engage in charter foreign air transportation of persons, property and mail to and from points in the United States to the full extent permitted by its homeland operating authority and the EU-U.S. open-skies agreement, as well as other charters pursuant to the prior approval requirements.

Barbara J. Hairston,
Supervisory Dockets Officer, Docket Operations, Alternate Federal Register Liaison.

[FR Doc. E9-7155 Filed 3-30-09; 8:45 am]

BILLING CODE 4910-9X-P